DEPARTMENT OF TRANSPORTATION

Federal Transit Administration

49 CFR Chapter VI

[Docket No. FTA-2013-0030]

RIN 2132-AB20

The National Public Transportation Safety Plan, the Public Transportation Agency Safety Plan, and the Public Transportation Safety Certification Training Program; Transit Asset Management

AGENCY: Federal Transit Administration (FTA), DOT.

ACTION: Advance notice of proposed rulemaking; withdrawal.

SUMMARY: This action withdraws an FTA advance notice of proposed rulemaking (ANPRM), The National Public Transportation Safety Plan, the Public Transportation Agency Safety Plan, and the Public Transportation Safety Certification Training Program; Transit Asset Management. FTA has issued separate notices of proposed rulemakings for the several rules included in the ANPRM, under different RIN numbers. Accordingly, FTA is not using RIN 2132-AB20 for any of the notices of proposed rulemakings and therefore the ANPRM is withdrawn.

DATES: Effective Date: The advance notice of proposed rulemaking published on October 3, 2013 (78 FR 61251) is withdrawn as of April 17, 2017.

FOR FURTHER INFORMATION CONTACT: Chaya Koffman, Assistant Chief Counsel, Legislation and Regulations Division, Office of Chief Counsel, phone: (202) 366-3101, fax: (202) 366-3809, or email: Chaya.Koffman@dot.gov.

SUPPLEMENTARY INFORMATION:

Background

On July 6, 2012, the President signed into law the Moving Ahead for Progress in the 21st Century Act (MAP-21), Public Law 112-141. MAP-21 made a number of fundamental changes to the statutes that authorize the Federal transit programs at 49 U.S.C. Chapter 53. Under discussion in the October 3, 2013 ANPRM were several provisions within the Public Transportation Safety Program (National Safety Program) authorized at 49 U.S.C. 5329 and the transit asset management requirements (National TAM System) authorized at 49 U.S.C. 5326.

FTA has published several notices of proposed rulemakings (NPRMs) and final rules for the Public Transportation Safety Program: Public Transportation Agency Safety Plan NPRM (RIN 2132-AB23); Public Transportation Safety Certification Training Program NPRM (RIN 2132-AB25); State Safety Oversight final rule (RIN 2132-AB19); Public Transportation Safety Program final rule (RIN 2132-AB22); and a proposed National Safety Plan (RIN 2132-ZA04). Further, FTA published a final rule for Transit Asset Management (RIN 2132-AB07). Each of these rulemakings has been assigned a distinct RIN, and RIN 2132-AB20 is not being used for any of the rules.

The Withdrawal

In consideration of the foregoing, the ANPRM for FTA Docket No. FTA-2013-0030, as published in the Federal Register on October 3, 2013 (78 FR 61251), is hereby withdrawn.

Matthew Welbes,
Executive Director.

[FR Doc. 2017-07673 Filed 4-14-17; 8:45 am]

BILLING CODE 4910-57-P